DEPARTMENT OF JUSTICE

Notice of Lodging of Proposed Consent Decree Under the Comprehensive Environmental Response, Compensation, and Liability Act

On February 21, 2019, the Department of Justice lodged a proposed Consent Decree with the United States District Court for the Southern District of Illinois in the lawsuit entitled United States v. Ameren Missouri, et al., Civil Action No. 19-231.

The United States filed a Complaint in this lawsuit under the Comprehensive Environmental Response, Compensation, and Liability Act (CERCLA). The United States' complaint names Ameren Missouri, Pharmacia LLP, Solutia Inc., and Afton Chemical Corporation as defendants. The complaint requests recovery of oversight and other response costs that the United States incurred in connection with remedial efforts taken in Sauget Area 2, Site P and an order requiring completion of remedial work selected in a Record of Decision for Sauget Area 2 located in Sauget, St. Clair County, Illinois. All four defendants signed the proposed Consent Decree, agreeing to pay all future response costs related to Site P and complete the work, estimated to cost $2.9 million. In return, the United States agrees not to sue the defendants under sections 106 and 107 of CERCLA related to this work. In addition, two site owners signed the consent decree agreeing to provide access to the defendants to complete the work.

The publication of this notice opens a period for public comment on the proposed Consent Decree. Comments should be addressed to the Assistant Attorney General, Environment and Natural Resources Division, and should refer to United States v. Ameren Missouri, et al., D.J. Ref. No. 90-11-2-06089/6. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the proposed Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $69.00 (25 cents per page reproduction cost) payable to the United States Treasury. For a paper copy without Appendices B and C (the Record of Decision and Statement of Work), the cost is only $12.50.

Randall M. Stone,
Acting Assistant Section Chief, Environmental Enforcement Section, Environment and Natural Resources Division.

[FR Doc. 2019-03549 Filed 2-27-19; 8:45 am]

BILLING CODE 4410-15-P